DEPARTMENT OF COMMERCE

International Trade Administration

[A-421-807]

Certain Hot-Rolled Carbon Steel Flat Products From the Netherlands: Notice of Court Decision Not in Harmony With Final Results of Administrative Review

AGENCY: Import Administration, International Trade Administration, Department of Commerce.

DATES: Effective Date: April 2, 2009

FOR FURTHER INFORMATION CONTACT: David Cordell or Robert James, AD/CVD Operations, Office 7, Import Administration, International Trade Administration, U.S. Department of Commerce, 14th Street and Constitution Avenue, NW., Washington, DC 20230; telephone: (202) 482-0408 or (202) 482-0649, respectively.

SUMMARY: On March 24, 2009, the United States Court of International Trade (the Court) sustained the remand redetermination issued by the Department of Commerce (the Department) pursuant to the Court's remand order in the final results of the administrative review of the antidumping duty order on certain hot-rolled carbon steel flat products from the Netherlands. See Corus Staal v. US, Court No. 07-221, Slip Op 09-21 CIT (March 24, 2009) (Corus Staal Judgment).

This case arises out of the Department's Final Results and Amended Final Results for the period of review (POR) period November 1, 2004, through October 31, 2005. See Certain Hot-Rolled Carbon Steel Flat Products from the Netherlands; Final Results of Antidumping Duty Administrative Review, 72 FR 28676 (May 22, 2007), and Accompanying Issues and Decision Memorandum at Comment 6 (Final Results); see also Certain Hot-Rolled Carbon Steel Flat Products from the Netherlands; Amended Final Results of the Antidumping Duty Administrative Review, 72 FR 34441 (June 22, 2007) (Amended Results). Consistent with the decision of the United States Court of Appeals for the Federal Circuit (Federal Circuit) in Timken Co. v. United States, 893 F.2d 337 (Fed. Cir. 1990) (Timken), the Department is notifying the public that Corus Staal Judgment is not in harmony with the Department's Final Results and the Amended Final Results.

SUPPLEMENTARY INFORMATION: Pursuant to the remand order of the Court in Corus Staal BV v. United States, Slip Op. 08-144 (CIT, December 29, 2008) (Corus Staal), the Department released the Draft Results of Redetermination Pursuant to Court Remand to interested parties on January 16, 2009. Corus and ArcelorMittal USA. Inc. (ArcelorMittal), domestic interested party, submitted comments on January 23, 2009. Corus and domestic producer U.S. Steel Corporation (U.S. Steel) submitted rebuttal comments on January 28, 2009.

On February 20, 2009, the Department filed its final results of redetermination pursuant to Corus Staal with the CIT. See Final Results of Redetermination Pursuant to Court Remand, Corus Staal BV v. United States Court No. 07-00221, Slip Op. 08-144 (CIT December 29, 2008) (Final Redetermination). In the Final Redetermination, the Department amended the final results of the 2004-2005 administrative review to rescind our duty absorption finding with respect to Corus Staal BV (Corus), “consistent with the Federal Circuit's interpretation of 19 U.S.C. 1675(a)(4) in Agro Dutch Indus. Ltd. v. United States, 508 F.3d 1024, 1028 (Fed. Cir. 2007) (Agro Dutch).” See Corus Staal at 26. Specifically, we no longer found that Corus absorbed antidumping duties during the period of review since Corus was, itself, the importer of record. This redetermination did not affect either the weighted-average margin or assessment rate calculated for Corus for the relevant period of review.

On March 24, 2009, the Court sustained all aspects of the remand redetermination. The Court reaffirmed the Department's calculation of Corus Staal's dumping margin during the administrative review and affirmed the Department's reversal of its duty absorption finding. Further, the Court also affirmed the Department's authority to issue instructions to U.S. Customs and Border Protection (CBP) to levy antidumping duties on entries.

In Timken, 893 F.2d at 341, the Federal Circuit held that, pursuant to section 516A(e) of the Tariff Act of 1930, as amended (the Act), the Department must publish a notice of a court decision that is “not in harmony” with a Department determination, and must suspend liquidation of entries pending a “conclusive” court decision. The Court's decision in Corus Staal Judgment on March 24, 2009, constitutes a final decision of the court that is not in harmony with the Department's Final Results and Amended Final Results. This notice is published in fulfillment of the publication requirements of Timken. Accordingly, the Department will continue the suspension of liquidation of the subject merchandise pending the expiration of the period of appeal or, if appealed, pending a final and conclusive court decision. In the event the Court's ruling is not appealed or, if appealed, upheld by the Federal Circuit the Department will instruct CBP to assess antidumping duties on entries of the subject merchandise during the POR based on the Amended Final Results.

This notice is issued and published in accordance with section 516A(c)(1) of the Act.

Dated: March 27, 2009.
Ronald K. Lorentzen,
Acting Assistant Secretary for Import Administration.

[FR Doc. E9-7445 Filed 4-1-09; 8:45 am]

BILLING CODE 3510-DS-P